DEPARTMENT OF HEALTH AND HUMAN SERVICES

Centers for Medicare & Medicaid Services

42 CFR Part 414

[CMS-5530-N]

Medicare Program; Advanced Alternative Payment Model (APM) Incentive Payment Advisory for Clinicians—Request for Current Banking Information for Qualifying APM Participants

AGENCY: Centers for Medicare & Medicaid Services (CMS), HHS.

ACTION: Payment advisory.

SUMMARY: This advisory is to alert certain clinicians who are Qualifying APM participants (QPs) and eligible to receive an Advanced Alternative Payment Model (APM) Incentive Payment that CMS does not have the current banking information needed to disburse the payment. This advisory provides information to these clinicians on how to update their banking information to receive this payment.

DATES: This advisory is effective on December 30, 2019.

FOR FURTHER INFORMATION CONTACT: Brittany LaCouture, (410) 786-0481.

SUPPLEMENTARY INFORMATION:

I. Background

Under the Medicare Quality Payment Program, an eligible clinician who participates in Advanced Alternative Payment Models (APMs) and meets the applicable payment amount or patient count thresholds for a performance year is a Qualifying APM Participant (QP) for that year. QPs earn a 5 percent lump sum APM Incentive Payment in the payment years 2019 through 2024 based on the QP Performance Period 2 years prior. The amount of the APM Incentive Payment is 5 percent of the payments for Part B covered professional services paid for the calendar year immediately preceding the payment year.

We began disbursing the 2019 APM Incentive Payment on September 26, 2019, and these disbursements are ongoing. The 2019 APM Incentive Payment is for eligible clinicians who were determined to be QPs based on their participation in Advanced APMs in the 2017 QP Performance Period.

II. Provisions of the Advisory

CMS is issuing this advisory to notify the QPs who are eligible for a 2019 APM Incentive Payment and are listed at https://qpp-cm-prod-content.s3.amazonaws.com/uploads/757/2019%20QP%20Notice%20for%20APM%20Incentive%20Payment.pdf that after several attempts to identify current banking information through which to make the disbursement, we have been unable to do so. Eligible clinicians who are on the referenced list should follow the directions for contacting CMS and to provide updated information as specified at https://qpp-cm-prod-content.s3.amazonaws.com/uploads/757/2019%20QP%20Notice%20for%20APM%20Incentive%20Payment.pdf and must do so no later than February 28, 2020.

We note that our regulation at § 414.1450(d) provides that CMS will make the CY 2019 APM Incentive Payment no later than December 31, 2019. We acknowledge that pursuant to this advisory, CMS anticipates disbursing the APM Incentive Payment to some QPs after December 31, 2019. We have made every effort to make all CY 2019 APM Incentive Payments on or before December 31, 2019. However, CY 2019 was the inaugural year us to issue the APM Incentive Payments. As we identified the QPs who are the subject of this advisory, we made continued efforts, but still have not located current banking information for them. We believe it is necessary and appropriate to afford the identified QPs the opportunity to provide us with their current banking information and receive their CY 2019 APM Incentive Payments. Therefore, we are extending the payment process into CY 2020 by giving the identified individuals the opportunity to provide us the necessary information by February 28, 2020, the deadline provided in this advisory, and appropriately disbursing the CY 2019 APM Incentive Payments thereafter as soon as practicable. We fully expect, after this inaugural year of the Advanced APM Incentive Payment, to make all payments within the timeframe specified in regulation.

Dated: December 19, 2019.
Seema Verma,
Administrator, Centers for Medicare & Medicaid Services.

[FR Doc. 2019-28010 Filed 12-26-19; 8:45 am]

BILLING CODE 4120-01-P